DEPARTMENT OF ENERGY

Federal Energy Regulatory Commission

Notice of Effectiveness of Exempt Wholesale Generator and Foreign Utility Company Status

Upstream Wind Energy LLC | EG18-40-000
New Mexico Wind, LLC | EG18-41-000
Wy'East Solar, LLC | EG18-43-000
Carlsbad Energy Center LLC | EG18-44-000
ColGreen North Shore, LLC | EG18-45-000
Panoche Valley Solar, LLC | EG18-46-000
Elk City Renewables II, LLC | EG18-47-000
Techren Solar II LLC | EG18-48-000
Parry Energy Storage, LP | FC18-1-000
Elmira Energy Storage, LP | FC18-2-000

Take notice that during the month of April 2018, the status of the above-captioned entities as Exempt Wholesale Generators or Foreign Utility Companies became effective by operation of the Commission's regulations. 18 CFR 366.7(a) (2017).

Dated: May 14, 2018.
Nathaniel J. Davis, Sr.,
Deputy Secretary.

[FR Doc. 2018-10614 Filed 5-17-18; 8:45 am]

BILLING CODE 6717-01-P